ENVIRONMENTAL PROTECTION AGENCY

[FRL-6845-5]

Agency Information Collection Activities: Submission for OMB Review; Comment Request; Business Ownership Representation

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Business Ownership Representation, EPA ICR No. 1962.01, this is a new collection. The ICR describes the nature of the information collection and its expected burden and cost; where appropriate, it includes the actual data collection instrument.

DATES: Comments must be submitted on or before September 5, 2000.

FOR FURTHER INFORMATION CONTACT: For a copy of the ICR contact Sandy Farmer at EPA by phone at (202) 260-2740, by E-mail at farmer.sandy@epamail.epa.gov, or download off the Internet at http://www.epa.gov/icr and refer to EPA ICR No. 1962.01. For technical questions about the ICR contact Leigh Pomponio at EPA by phone at (202) 564-4364 or by email at pomponio.leigh@epa.gov.

SUPPLEMENTARY INFORMATION: Title: Business Ownership Representation, OMB No. not yet assigned, EPA ICR No. 1962.01. This is a new collection.

Abstract: EPA will request that contractors selected for award reply to the Business Ownership Representation clause by checking the appropriate box to indicate the ethnic affiliation of the company ownership. EPA will use the collected information in aggregate to encourage full participation in the contractor selection process by identifying business communities that are under-represented in Agency awards, and sponsoring outreach efforts in those areas. Responses to the collection of information are voluntary, and responses will be treated as confidential business information in accordance with 40 CFR 2.201 et seq. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 04/24/00 (65 FR 21763). No comments were received.

Burden Statement: The annual public reporting and recordkeeping burden for this collection of information is estimated to average 3 minutes per response. Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Large and small business receiving contracts from EPA.

Estimated Number of Respondents: 240.

Frequency of Response: 1.

Estimated Total Annual Hour Burden: 12 hours.

Estimated Total Annualized Capital and Operating & Maintenance Cost Burden: $0.

Send comments on the Agency's need for this information, the accuracy of the provided burden estimates, and any suggested methods for minimizing respondent burden, including through the use of automated collection techniques to the following addresses. Please refer to EPA ICR No. 1962.01 in any correspondence.

Ms. Sandy Farmer, U.S. Environmental Protection Agency, Office of Environmental Information, Collection Strategies Division (2822), 1200 Pennsylvania Ave, NW, Washington, DC 20460;

and

Office of Information and Regulatory Affairs, Office of Management and Budget, Attention: Desk Officer for EPA, 725 17th Street, NW, Washington, DC 20503.

Dated: July 30, 2000.
Oscar Morales,
Director, Collection Strategies Division.

[FR Doc. 00-19790 Filed 8-30-00; 8:45 am]

BILLING CODE 6560-50-P